NUCLEAR REGULATORY COMMISSION

[Docket No. 72-22-ISFSI]

In the Matter of Private Fuel Storage, L.L.C. (Independent Spent Fuel Storage Installation); Notice of Appointment of Adjudicatory Employees

Commissioners: Nils J. Diaz, Chairman; Jeffrey S. Merrifield; Gregory B. Jaczko; Peter B. Lyons.

Pursuant to 10 CFR 2.4, notice is hereby given that Mr. Arthur Buslik of the Office of Nuclear Regulatory Research, Division of Risk Analysis and Applications, Probabilistic Risk Analysis Branch; and Abdul Sheikh, of the Office of Nuclear Regulatory Research, Division of Engineering Technology, Engineering Research Applications Branch, have been appointed as Commission adjudicatory employees within the meaning of section 2.4, to advise the Commission regarding issues relating to the pending petition for review in the Matter of Private Fuel Storage, L.L.C. (Contention Utah K (Aircraft Crashes)). These employees have not previously performed any investigative or litigating function in connection with this or any related proceeding. Mr. Buslik has previously served as an adjudicatory employee in this proceeding.

Until such time as a final decision is issued in this matter, interested persons outside the agency and agency employees performing investigative or litigating functions in this proceeding are required to observe the restrictions of 10 CFR 2.780 and 2.781 in their communications with Mr. Buslik and Mr. Sheikh.

It is so ordered.

For the Commission.
Dated at Rockville, Maryland, this 20th day of July, 2005.
Annette L. Vietti-Cook,
Secretary of the Commission.

[FR Doc. E5-3966 Filed 7-25-05; 8:45 am]

BILLING CODE 7590-01-P